DEPARTMENT OF ENERGY

Federal Energy Regulatory Commission

[Project No. 12095-000]

Metropolitan Water District of Southern California; Notice of Effectiveness of Surrender

On September 17, 2001, the Commission issued an Order Granting Exemption from Licensing (Conduit) ¹ to the Metropolitan Water District of Southern California (exemptee) for the OC-88 Small Conduit Hydroelectric Project No. 12095. The project was located in the City of Lake Forest in Orange County, California at the OC-88 Service Connection, which transfers water from the Allen-McCulloch Pipeline to the South County Pipeline.

¹ Metropolitan Water District of Southern California, 96 FERC ¶ 62,259 (2001).

On September 20, 2005, staff from the Commission's San Francisco Regional Office conducted an operation inspection of the project. During the inspection, the exemptee advised Commission staff that it intended to surrender the exemption and Commission staff observed that the exemptee had capped off the penstock and electrically disconnected the generator.

On November 4, 2005, the exemptee filed an application with the Commission to surrender its exemption stating that, due to modifications at the pump station, the physical connections necessary for operation of the turbine generator no longer existed.

Accordingly, the Commission hereby gives notice and accepts the Metropolitan Water District of Southern California's surrender of its exemption from licensing for the OC-88 Small Conduit Hydroelectric Project issued on September 17, 2001, effective November 4, 2005.

Dated: July 7, 2011.
Kimberly D. Bose,
Secretary.

[FR Doc. 2011-17587 Filed 7-12-11; 8:45 am]

BILLING CODE 6717-01-P